DEPARTMENT OF THE INTERIOR

Bureau of Reclamation

Notice of Intent To Prepare a Draft Environmental Impact Statement on the Construction and Operation of the Navajo-Gallup Water Supply Project and Announcement of Public Scoping Meetings

AGENCY: Bureau of Reclamation, Interior.

ACTION: Notice of intent to prepare a Draft Environmental Impact Statement on the construction and operation of the Navajo-Gallup Water Supply Project and announcement of public scoping meetings.

SUMMARY: The Department of the Interior, Bureau of Reclamation, announces its intent to prepare a Draft Environmental Impact Statement (DEIS) pursuant to the National Environmental Policy Act (NEPA) of 1969, as amended, on the Navajo-Gallup Water Supply Project to supply municipal and industrial water to the New Mexico portion of the Navajo Nation south of the San Juan River and the Window Rock area within Arizona, and the City of Gallup, New Mexico. The DEIS will evaluate alternatives for the construction and operation of the Navajo-Gallup Water Supply Project and act as the final planning report to support a request for construction authorization.

A long-term high quality municipal and industrial water supply is needed to improve the standard of living for current and future populations and to support economic growth of the Navajo Nation and the City of Gallup. The Navajo-Gallup Water Supply Project has evolved as a major infrastructure initiative to supply approximately 40,000 acre-feet of municipal and industrial water annually from the San Juan River to meet these needs. To achieve this initiative, the following organizations have worked closely in a cooperative effort: the Navajo Nation Department of Water Resources, Northwest New Mexico Council of Governments, City of Gallup, Bureau of Indian Affairs, and the Bureau of Reclamation.

Two structural alternatives for the Navajo-Gallup Water Supply Project are currently under study and proposed: The Navajo Indian Irrigation Project (NIIP) Alternative and the San Juan River Diversion Alternative. The DEIS will examine both of these proposed alternatives as well as a Non-Structural Water Conservation Alternative, a No Action Alternative, and any other proposed alternatives brought forth as a result of the public scoping meetings that will be conducted in April and May 2000 (See SUPPLEMENTARY INFORMATION section).

Reclamation invites other federal agencies, states, Indian Tribes, local governments, and the general public to submit written comments or suggestions concerning the scope of the issues to be addressed in the DEIS. This is intended to meet the public involvement requirements of both NEPA and the National Historic Preservation Act. The public is invited to participate in a series of scoping meetings that will be held in late April and early May 2000 in New Mexico and Arizona (see SUPPLEMENTARY INFORMATION section). Those not desiring to submit comments or suggestions at this time, but who would like to receive a copy of the DEIS, should write to the address given below. When the DEIS is complete, its availability will be announced in the Federal Register, local news media, and through direct contact with interested parties. Comments will be solicited on the document.

Our practice is to make comments, including names and home addresses of respondents, available for public review. Individual respondents may request that we withhold their home address from public disclosure, which we will honor to the extent allowable by law. If you want us to withhold your name and/or address, you must state this prominently at the beginning of your comment. We will make all submissions from organizations or businesses, and from individuals identifying themselves as representatives or officials of organizations or businesses, available for public disclosure in their entirety.

DATES AND LOCATIONS: See SUPPLEMENTARY INFORMATION section meeting dates and locations.

FOR FURTHER INFORMATION CONTACT: Mr. Rege Leach, Bureau of Reclamation, Western Colorado Area Office, 835 East Second Avenue, Suite 300, Durango, Colorado 81301; telephone (970) 385-6553; faxogram (970) 385-6539; E-mail: rleach@uc.usbr.gov.

SUPPLEMENTARY INFORMATION:

Background

Recognizing the severe water supply problems facing the Navajo Nation and the City of Gallup, the Navajo Nation and the City signed a Memorandum of Agreement on April 17, 1998, to proceed with planning and developing the Navajo-Gallup Water Supply Project. The two parties, working as partners with the Bureau of Reclamation and the Bureau of Indian Affairs, propose to plan, implement environmental compliance, secure water supplies, obtain Congressional authorization, and construct and operate the Navajo-Gallup Water Supply Project. The project will serve the residents of the Navajo Nation and the City of Gallup.

Purpose and Need for Action

The purpose and need of the proposed federal action is to provide a long-term, high quality municipal and industrial water supply to improve the standard of living for current and future populations and to support economic growth of the Navajo Nation and the City of Gallup.

Range of Alternatives

As part of its NEPA analysis, Reclamation intends to evaluate the following alternatives:

NIIP Alternative—This alternative would supply approximately 40,000 acre-feet of water annually. The water would be diverted from the Navajo Reservoir through the Main and Burnham Lateral Canals of the NIIP and delivered to a proposed 8,800 acre-foot Moncisco Dam and Reservoir (to be constructed under this alternative). A treatment plant and pumping station would be constructed near Moncisco Reservoir. The pipeline alignment would run south from the treatment plant to an existing natural gas line corridor used by the El Paso San Juan Triangle Mainline and by the Transwestern San Juan Lateral System. The main pipeline route would follow the gas line corridor to the vicinity of Twin Lakes where it would turn south to Yah-ta-hey. At Yah-ta-hey, the main pipeline would connect to smaller spur water lines heading west along Highway 64 to Window Rock, Arizona, and south along Highway 666 to the City of Gallup, and surrounding areas. Three other spur pipelines would connect to the mainline. They would include a pipeline from Naschitti north along Highway 666 to Sanostee, pipeline from Twin Lakes east along Indian Route 9 to Dalton Pass, and a pipeline from the treatment plant along Highway 44 to Nageezi and then south to Torreon. Storage tanks and rechlorination facilities would be included in the project.

San Juan River Diversion Alternative—This alternative would divert water directly out of the San Juan River below the confluence of the La Plata and San Juan Rivers. The existing Hogback Diversion structure or the Public Service Company of New Mexico's nearby weir would be used to divert the water. The Hogback structure is located on the San Juan River at river mile 158.9 downstream of the La Plata River confluence and upstream from Chaco Wash. A treatment plant, storage reservoir, and pumping plant would be constructed near the point of diversion. From the pumping plant, the pipeline alignment would proceed south along Highway 666 of Yah-ta-hey. At Yah-ta-hey, the main pipeline would connect to smaller spur water lines for the Window Rock, Arizona, and Gallup areas. Compared to the water from Navajo Reservoir, the water quality of the San Juan River is poorer and will require additional water treatment.

To service the eastern portion of the Navajo Reservation, an additional mainline would be constructed. This eastern pipeline would originate at a treatment and pumping plant to be constructed at Cutter Reservoir. The eastern pipeline would carry water from the pumping plant south to Huerfano, follow Highway 44 to Nageezi, and then head south to Torreon. Cutter Reservoir, part of the NIIP canal system, receives water from Navajo Reservoir.

Under both structural alternatives, the locations of the points of diversion have critical hydrologic implications for the endangered species in the San Juan River and project purposes of the Navajo Reservoir as authorized by the Colorado River Storage Project Act.

Non-Structural Water Conservation Alternative—Non-structural alternatives to developing a water supply project include water conservation and reuse. Significant and cost effective water conservation opportunities may not be available due to the already low water use. Current safe Drinking Water Act regulations limit water reuse applications.

No Action Alternative—Under this alternative, the project would not be constructed and there would be no federal action taken to meet the current and future water needs of the Navajo Nation and the City of Gallup.

Public Scoping

Public scoping meetings will be held in New Mexico and Arizona in late April and early May 2000 to obtain input on the significant issues related to the proposed action. The schedule and locations of the meetings are shown below. The public is asked to provide input on the following:

1. Whether the overall range of alternative is appropriate and are there additional alternatives to consider.

2. Identification of relevant issues related to the proposed action.

Schedule of Scoping Meetings

Each of the scoping meetings will begin with a one-hour open house where the public can informally discuss issues and ask questions of staff and managers. The open house will be followed by a more formal scoping hearing in which participants will be given time to make official comments. These comments will be formally recorded. Speakers are encouraged to provide written versions of their oral comments, and any other additional written materials, for the record.

Comments may also be sent directly to the Bureau of Reclamation's Western Colorado Area Office, 835 East Second Avenue, Suite 300, Durango, CO 81301. Written comments should be received no later than Friday, May 26, 2000, to be most effectively considered.

Dates of Scoping Meetings

• April 25, 2000, 6 to 9 p.m., Crownpoint Chapter House, Crownpoint, New Mexico.

• April 26, 2000, 6 to 9 p.m., St. Michaels (Chi'hootso) Chapter House, St. Michaels, Arizona.

• April 27, 2000, 6 to 9 p.m., University of New Mexico Gallup Campus, Auditorium 248,200 College Road, Gallup, New Mexico.

• May 2, 2000, 6 to 9 p.m., Dine College, Shiprock Campus Gymnasium, Shiprock, New Mexico.

• May 3, 2000, 6 to 9 p.m., San Juan College Lecture Hall 7103, Computer Science Building, 4601 College Boulevard, Farmington, New Mexico.

Dated: March 21, 2000.
Charles A. Calhoun,
Regional Director, Upper Colorado Region.

[FR Doc. 00-7442 Filed 3-24-00; 8:45 am]

BILLING CODE 4310-94-M